ENVIRONMENTAL PROTECTION AGENCY

[EPA-HQ-OW-2004-0015; FRL-10013-17-OMS]

Information Collection Request Submitted to OMB for Review and Approval; Comment Request; Clean Water State Revolving Fund Program (Renewal)

AGENCY: Environmental Protection Agency (EPA).

ACTION: Notice.

SUMMARY: The U.S. Environmental Protection Agency (EPA) has submitted an information collection request (ICR), Clean Water State Revolving Fund Program (EPA ICR Number 1391.12, OMB Control Number 2040-0118) to the Office of Management and Budget (OMB) for review and approval in accordance with the Paperwork Reduction Act (PRA). This is a proposed extension of the ICR, which is currently approved through September 30, 2020. Public comments were previously requested via the Federal Register on January 13, 2020, during a 60-day comment period. This notice allows for an additional 30 days for public comments. A fuller description of the ICR is given in this renewal notice, including its estimated burden and cost to the public. An agency may not conduct or sponsor, and a person is not required to respond to a collection of information unless it displays a currently valid OMB control number.

DATES: Comments must be submitted on or before August 31, 2020.

ADDRESSES: Submit your comments to EPA, referencing Docket ID No. EPA-HQ-OW-2006-0369, online using www.regulations.gov (our preferred method), by email to OW-Docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute. Submit written comments and recommendations to OMB for the proposed information collection within 30 days of publication of this notice to www.reginfo.gov/public/do/PRAMain. Find this particular information collection by selecting “Currently under 30-day Review—Open for Public Comments” or by using the search function.

FOR FURTHER INFORMATION CONTACT: Mark Mylin, Water Infrastructure Division, Office of Wastewater Management, 4204M, Environmental Protection Agency, 1200 Pennsylvania Ave. NW, Washington, DC 20460; telephone number: 202-564-0607; email address: mylin.mark@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Clean Water State Revolving Funds (CWSRF) were established by the 1987 amendments to the Clean Water Act (CWA) as a financial assistance program for a wide range of wastewater infrastructure and other water quality projects. The 1987 amendments added Title VI to the CWA, enabling EPA to provide grants to all 50 states and Puerto Rico to capitalize CWSRFs. The CWSRFs can provide loans and other forms of assistance for a wide array of projects, including construction of wastewater treatments facilities, green infrastructure projects, agricultural best management practices, and water and energy efficiency improvements. In 2014, Title VI of the CWA was amended by the Water Resources Reform and Development Act (WRRDA). Additional information about the CWSRFs is available at http://www.epa.gov/cwsrf/learn-about-clean-water-state-revolving-fund-cwsrf.

Capitalization Grant Agreement/Intended Use Plan—The Capitalization Grant Agreement is the principal instrument by which a CWSRF commits to manage its revolving fund program in conformity with the requirements of the Clean Water Act. The grant agreement contains or incorporates by reference the intended use plan, application materials and CWSRF administrative budget, required certifications, and other documentation required by EPA. The intended use plan describes how a CWSRF program intends to use its funds for the upcoming year to meet the CWA objectives.

Annual Report—The annual report indicates how the CWSRF has met its goals and objectives of the previous state fiscal year as stated in the grant agreement and, more specifically, in the intended use plan. The report provides information on loan recipients, loan amounts, loan terms, project categories of eligible costs, and similar data on other forms of assistance.

Annual Audit—The CWA requires a CWSRF to undergo an annual audit. Though an audit conducted under the Single Audit Act meets this requirement, EPA still recommends that a CWSRF also undergo a separate independent audit as a best management practice. The audit must contain an opinion on the financial condition of the CWSRF program, a report on its internal controls, and a report on compliance with applicable laws and the CWA.

Clean Water National Information Management System (CWNIMS) and CWSRF Benefits Reporting (CBR)—States must enter financial data, including project disbursements, into the CWNIMS database on an annual basis. This publicly available information is used by EPA to assess compliance with the CWSRFs' mandate to use all funds in an “expeditious and timely” manner and achieve the objectives of the CWA.

Public Awareness Policy—Per EPA Grants Policy Issuance (GPI) 14-02: Enhancing Public Awareness of EPA Assistance Agreements, CWSRF borrowers must publicize EPA's involvement in project funding only up to the funding amount in each year's capitalization grant.

Form Numbers: None.

Respondents/affected entities: State environmental departments, and/or finance agencies responsible for operating the CWSRFs and eligible CWSRF borrowers.

Respondent's obligation to respond: Required to obtain or retain a benefit per Title VI of CWA as amended by WRRDA.

Estimated number of respondents: 51 state environmental departments and/or finance agencies (per year); 320 eligible CWSRF borrowers (per year).

Frequency of response: Varies by requirement (i.e., quarterly, semi-annually and annually).

Total estimated burden: 57,230 hours (per year). Burden is defined at 5 CFR 1320.03(b).

Total estimated cost: $6,013,420 (per year), includes $2,928,100 annualized capital or operation & maintenance costs.

Changes in Estimates: There is a decrease of 530,156 hours (per year) in the total estimated respondent burden compared with the ICR currently approved by OMB. This large reduction is in response to additional OMB guidance recommending that the burden associated with the CWSRF applications be removed as part of this ICR renewal since (1): States have a significant degree of discretion in what information they solicit through the CWSRF applications and (2): CWSRF applications are not subject to EPA approval.

Courtney Kerwin,
Director, Regulatory Support Division.

[FR Doc. 2020-16590 Filed 7-30-20; 8:45 am]

BILLING CODE 6560-50-P